DEPARTMENT OF THE TREASURY

United States Mint

Pricing for the 2017 American Liberty 225th Anniversary Silver Four-Medal Set

AGENCY: United States Mint, Department of the Treasury.

ACTION: Notice.

SUMMARY: The United States Mint is announcing the price of the 2017 American Liberty 225th Anniversary Silver Four-Medal Set. Each set will be priced at $199.95.

FOR FURTHER INFORMATION CONTACT: Katrina McDow, Marketing Specialist, Numismatic and Bullion Directorate; United States Mint; 801 9th Street NW., Washington, DC 20220; or call 202-354-8495.

Authority: 31 U.S.C. 5111(a)(2).

Dated: September 7, 2017.
David Motl,
Acting Deputy Director, United States Mint.

[FR Doc. 2017-19316 Filed 9-11-17; 8:45 am]

BILLING CODE P